DEPARTMENT OF TRANSPORTATION

Federal Highway Administration

Environmental Impact Statement; I-395/Route 9 Transportation Study; Penobscot County, ME

AGENCY: Federal Highway Administration (FHWA), DOT.

ACTION: Notice of intent.

SUMMARY: The FHWA is issuing this notice to advise the public that an Environmental Impact Statement (EIS) will be prepared for a proposed highway project in the towns of Brewer, Holden, Eddington, and Clifton, Maine.

FOR FURTHER INFORMATION CONTACT: Mark Hasselmann, Right of Way and Environmental Programs Manager, Maine Division, Federal Highway Administration, 40 Western Ave., Augusta, Maine 04330, Tel. 207/622-8350, ext. 101; Raymond Faucher, Project Manager, Maine Department of Transportation, 16 State House Station, Augusta, Maine 04333-0016, Tel. 207/624-3300.

SUPPLEMENTARY INFORMATION: On October 11, 2005, FHWA Maine Division notified MaineDOT that they completed their review of the preliminary Environmental Assessment (EA) including the history and issues involving the I-395/Route 9 Transportation Study. Based on the review, FHWA determined that an EIS is required before location and design approval. The FHWA determination to elevate the I-395/Route 9 Transportation Study NEPA documentation requirements from an EA to an EIS is based on:

• 23 CFR 771.115 identification of a new controlled access freeway and highway projects of four or more lanes normally requiring an EIS; approximate corridor length 10.5 miles,

• The proposed 43.2 acres of wetland impacts exceeding historical MaineDOT annual statewide total for wetland impacts,

• The potential difficulty in identifying compensatory mitigation opportunities within the Study Area, and

• The resource agencies request for additional information on indirect and cumulative impacts and the potential for habitat fragmentation.

The FHWA, in cooperation with the Maine Department of Transportation, will prepare an EIS that analyzes alternatives to identify a Preferred Alternative to meet future transportation needs. The alternative identification and analysis from the preliminary EA will provide the foundation to further the evaluation of upgrades of the existing roadway system, alignments on new location, and the No-build Alternative. The EIS will examine alternatives to improve transportation system linkage, safety, and mobility between Interstate 395 (I-395), Brewer and State Route 9 (Route 9), Clifton in southern Penobscot County, Maine.

This project was initiated as an EA. Agency scoping and early coordination was initiated in December of 2000; letters describing the proposed action and soliciting comments were sent to appropriate Federal, State, and local agencies and the municipalities in accordance with the procedural provisions of the National Environmental Policy Act and FHWA's and MaineDOT's requirements and policies for scoping and early coordination. The I-395/Route 9 Transportation Study was presented to the federal and state regulatory and resource agencies at eight MaineDOT monthly Interagency coordination meetings between January 2000 and July 2005. Public participation, initiated early in the EA process, has included 17 meetings of a Public Advisory Committee (PAC), two public meetings and an interactive Web site, <http://www.i395-rt9-study.com>. The first PAC meeting was held in September 2000. A public scoping and informational meeting was held on April 11, 2001. A second public meeting was held on September 19, 2001 to present the range of alternatives considered for satisfying purpose and need, preliminary alternatives screening, and the range of alternatives retained for further consideration.

Letters describing the proposed action and soliciting comments will be sent to appropriate Federal, State and local agencies and private organizations that have previously expressed or are known to have interest in the proposed action. All public and agency comments, including early scoping comments, received during the EA process will be addressed in the EIS. The draft EIS will be available for public and agency review and comment prior to a public hearing. To ensure that the full range of issues related to this proposed action are addressed and all significant issues identified, comments, and suggestions are invited from all interested parties. Comments or questions concerning this proposed action and the EIS should be directed to the FHWA and/or MaineDOT at the addresses provided above. (Catalog of Federal Domestic Assistance Program Number 20.205, Highway Planning and Construction. The regulations implementing Executive Order 12372 regarding intergovernmental consultation on Federal programs and activities apply to this program.)

FHWA anticipates that the following Federal approvals will be necessary for the project:

Clean Water Act Section 404 permit

Design, Right of Way, and Construction Funding Authorization

Authority: 23 U.S.C. 315; 49 CFR 1.48.

Issued on: November 22, 2005.
Jonathan McDade,
Division Administrator, Federal Highway Administration, Augusta, Maine.

[FR Doc. 05-23529 Filed 11-30-05 8:45 am]

BILLING CODE 4910-22-M